DEPARTMENT OF HOMELAND SECURITY

Coast Guard

33 CFR Part 165

[COTP Prince William Sound 05-008]

RIN 1625-AA87

Security Zones; TAPS Terminal, Valdez Narrows, and Tank Vessels in COTP Prince William Sound

AGENCY: Coast Guard, DHS.

ACTION: Temporary final rule; request for comments.

SUMMARY: The Coast Guard proposes establishing security zones encompassing the Trans-Alaska Pipeline System (TAPS) Valdez Terminal Complex (Terminal) in Valdez, Alaska, the Valdez Narrows Tanker Optimum Track Line, and waters 200 yards around any tank vessel operating within the COTP Prince William Sound zone. These security zones are necessary to protect the TAPS Terminal and tank vessels from damage or injury from sabotage or other subversive acts. Entry of vessels into these security zones is prohibited unless specifically authorized by the Captain of the Port, Prince William Sound, Alaska.

DATES: This rule is effective from June 13, 2005, to October 11, 2005. Comments and related material must reach the Coast Guard on or before August 29, 2005.

ADDRESSES: Comments and material received from the public, as well as documents indicated in this preamble as being available in the docket, are part of docket COTP Prince William Sound 05-008 and are available for inspection or copying at U.S. Coast Guard Marine Safety Office Valdez, 105 Clifton Court, Valdez, Alaska 99686 between 8 a.m. and 4:30 p.m., Monday through Friday, except Federal holidays.

FOR FURTHER INFORMATION CONTACT: LT Daune Lemmon, U.S. Coast Guard Marine Safety Office Valdez, (907) 835-7266.

SUPPLEMENTARY INFORMATION:

Regulatory Information

We did not publish a notice of proposed rulemaking (NPRM) for this regulation. Under 5 U.S.C. 533(b)(B), the Coast Guard finds that good cause exists for not publishing an NPRM. These security zones are necessary on short notice to protect vessels and people from damage or injury from sabotage or other subversive acts. The duration of this temporary final rule is necessary while a rulemaking for a permanent security zone is completed. For these same reasons, under 5 U.S.C. 553(d)(3), the Coast Guard finds that good cause exists for making this rule effective less than 30 days after publication in the Federal Register. Although the Coast Guard has good cause to issue this effective temporary rule without first publishing a proposed rule, you are invited to submit comments and related material regarding this rule on our before August 29, 2005. We may change the temporary final rule based on your comments.

Discussion of Rule

The Coast Guard is establishing security zones within three different areas in the Captain of the Port (COTP), Prince William Sound Zone. The Trans-Alaska Pipeline (TAPS) Valdez Marine Terminal (Terminal) security zone encompasses the waters of Port Valdez between Allison Creek to the east and Sawmill Spit to the west and offshore to marker buoys A and B (approximately 1.5 nautical miles offshore from the TAPS Terminal). The tank vessel in COTP Prince William Sound Zone encompasses the waters within 200 yards of a tank vessel within the COTP, Prince William Sound Zone. The Valdez Narrows security zone encompasses the waters 200 yards either side of the Tanker Optimum Trackline through Valdez Narrows between Entrance Island and Tongue Point. This Valdez Narrows zone will be activated and subject to enforcement only when a tank vessel is in this security zone.

These security zones are necessary to protect TAPS Terminal and tank vessels from damage or injury from sabotage or other subversive acts. The duration of this temporary final rule is necessary while a rulemaking for a permanent security zone is completed. The Coast Guard has worked closely with local and regional users of Port Valdez and Valdez Narrows waterways to develop these security zones in order to mitigate the impact on commercial and recreational users.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit in a portion of Port Valdez.

These security zones will not have a significant economic impact on a substantial number of small entities for the reason that vessel traffic can pass safely around the security zones.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g). A final “Environmental Analysis Check List” and a final “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. A new temporary § 165.T17-020 is added to read as follows:

§ 165.T17-020 Port Valdez and Valdez Narrows, Valdez, Alaska-security zones.

(a) Location. The following areas are security zones—

(1) Trans-Alaska Pipeline System (TAPS) Valdez Terminal Complex (Terminal), Valdez, Alaska. All waters enclosed within a line beginning on the southern shoreline of Port Valdez at 61°04.97′ N, 146°26.33′ W; thence northerly to the yellow buoy at 61°06.50′ N, 146°26.33′ W; thence east to the yellow buoy at 61°06.50′ N, 146°21.23′ W; thence south to 61°05.11′ N, 146°21.23′ W; thence west along the shoreline and including the area 2000 yards inland along the shoreline to the beginning point. This security zone encompasses all waters approximately 1 mile north, east and west of the TAPS Terminal between Allison Creek (61°05.11′ N, 146°21.23′ W) and Sawmill Spit (61°04.97′ N, 146°26.33′ W).

(2) Tank Vessels in COTP Prince William Sound Zone. All waters within 200 yards of any tank vessel maneuvering to approach, moor, unmoor or depart the TAPS Terminal or transiting, maneuvering, laying to, or anchored within the boundaries of the Captain of the Port, Prince William Sound Zone described in 33 CFR 3.85-20(b).

(3) Valdez Narrows, Port Valdez, Valdez, Alaska. All waters within 200 yards of the Valdez Narrows Tanker Optimum Track line, when a tanker is navigating through the narrows.

(i) The Valdez Narrows Tanker Optimum Track line is a line commencing at 61°05.38′ N, 146°37.38′ W; thence south westerly to 61°04.05′ N, 146°40.05′ W; thence southerly to 61°04.05′ N, 146°41.20′ W.

(ii) This security zone encompasses all waters 200 yards either side of the Valdez Narrows Optimum Track line.

(iii) Whenever a tank vessel is navigating on the Valdez Narrows Optimum Track line, the security zone is activated and subject to enforcement. All vessels forward of a TAPS tanker's movement shall vacate the security zone surrounding the Optimum Track line. Vessels may reenter the security zone astern of a moving tanker provided that a 200 yards separation is given, as required in paragraph (a)(2) of this section.

(b) Regulations. (1) The general regulations in 33 CFR 165.33 apply to the security zones established in paragraph (a) of this section. No person or vessel may enter these security zones without permission of the Captain of the Port, Prince William Sound.

(2) All persons and vessels granted permission to enter these security zones must comply with the instructions of the Captain of the Port representative or designated on-scene patrol vessel. These personnel are comprised of commissioned, warrant, and petty officers of the Coast Guard. Upon being hailed by a Coast Guard vessel by siren, radio, flashing light, or other means, the operator of a vessel must proceed as directed.

(3) The Captain of the Port or his representative or the designated on-scene patrol vessel may authorize vessels to enter the security zones in this section.

(c) Effective period. This section is effective from June 13, 2005, to October 11, 2005.

Dated: June 10, 2005.
M.S. Gardiner,
Commander, U.S. Coast Guard, Captain of the Port, Prince William Sound.

[FR Doc. 05-12932 Filed 6-29-05; 8:45 am]

BILLING CODE 4910-15-P